DEPARTMENT OF DEFENSE

Department of the Army

Notice of Availability (NOA) of the Pinon Canyon Maneuver Site (PCMS), Colorado, Transformation Draft Environmental Impact Statement (DEIS) and Evaluation of Continued Land Withdrawal under Public Law 104-201

AGENCY: Department of the Army, DoD.

ACTION: Notice of Availability.

SUMMARY: The U.S. Army announces the availability of a DEIS that evaluates the implementation of transformational activities at the PCMS, Colorado. The PCMS is a training center area administered and used by military units stationed at, or otherwise under the responsibility of, Fort Carson, Colorado. Implementation actions associated with these transformational activities include training of additional Soldiers at the PCMS, and as funds become available, constructing a limited number of facilities in the cantonment and training areas, and increasing the use of the PCMS maneuver training lands.

DATES: The public comment period for the DEIS will end 45 days after publication of an NOA in the Federal Register by the U.S. Environmental Protection Agency.

ADDRESSES: Written comments or materials should be forwarded to the PCMS NEPA Coordinator (proponent), Directorate of Environmental Compliance and Management, 1638 Elwell Street, Building 6236, Fort Carson, Colorado 80913-4000.

FOR FURTHER INFORMATION CONTACT: PCMS NEPA Coordinator via phone at (719) 526-0912; fax: (719) 526-1705; or e-mail: pcmsnepa@carson.army.mil.

SUPPLEMENTARY INFORMATION: The Proposed Action and subject of the DEIS is the implementation of three major Army transformation programs at the PCMS: Base Realignment and Closure; Integrated Global Presence and Basing Strategy (also known as Global Defense Posture Realignment); and the Army Modular Force initiative. Implementing these transformation programs would require training of additional troops at the PCMS, construction of a limited number of storage facilities in the cantonment (to include a Brigade Support Complex, medical facilities, storage facilities, Soldier support functions, a vehicle maintenance facility, motor pools, and upgraded roads and utilities) and in the training areas (a live hand-grenade range, an ammunition holding area, a protective equipment training facility, upgrades to an existing small-arms range, and communication facilities), and increasing the use of the PCMS maneuver training lands.

The transformation of the PCMS would occur between 2006 and 2011, although planned construction projects would be built as funding becomes available and some may occur in out years. Upon completion of transformation activities, the PCMS would be responsible for supporting the large-scale ground maneuver and small arms live-fire training needs of the approximately 23,000 active duty Soldiers stationed at Fort Carson as well as potentially thousands of Reserve Component Soldiers in the western United States. Supporting increased training would involve an increased use of the PCMS maneuver training lands and small arms ranges, including a greater number of and longer-duration training rotations.

The alternatives considered in the DEIS include the Proposed Action (Preferred Alternative) and No Action. Other action alternatives were considered and discussed in the DEIS but were not analyzed further because they did not meet the purpose and need for the Proposed Action or, in accordance with President's Council on Environmental Quality regulations, were not “ripe for decision.” The substantive issues analyzed in this DEIS include land use, air quality, noise, geology and soils, water resources, biological resources, cultural resources, socioeconomics (including environmental justice), transportation, utilities, hazardous and toxic substances, and cumulative environmental effects.

Additionally, the Army has made a determination of a need for the continued withdrawal of approximately 2,500 acres of public land and approximately 130,000 acres of publicly owned land with mineral rights from the public domain. The withdrawal of these lands and minerals was extended until 2011 by Public Law 104-201, the National Defense Authorization Act for Fiscal Year 1997. The law requires the Army to reevaluate the need for these withdrawals to continue after 2011 and hold a public hearing concerning the evaluation. The DEIS documents the Army's continued military need for these lands and evaluates the environmental effects of the continued military use of withdrawn lands.

The Army will hold public meetings in Trinidad, Colorado, and La Junta, Colorado, to receive comments on the DEIS and land withdrawal. The Trinidad meeting will be held on November 2, 2006 from 5:30 p.m. to 7:30 p.m. at the Trinidad State Junior College, Sullivan Center, 600 Prospect Street, Trinidad, Colorado. The La Junta meeting will be held on November 3, 2006 from 5:30 p.m. to 7:30 p.m. at the Otero Junior College, Student Center Banquet Room, 2001 San Juan Avenue, La Junta, Colorado.

An electronic version of the DEIS can be viewed or downloaded from the following URL: http://www.hqda.army.mil/acsim/brac/nepa_eis_docs.htm.

Dated: October 6, 2006.
Addison D. Davis, IV,
Deputy Assistant Secretary of the Army, (Environment, Safety and Occupational Health).

[FR Doc. 06-8641 Filed 10-12-06; 8:45 am]

BILLING CODE 3710-08-M